DEPARTMENT OF ENERGY

Federal Energy Regulatory Commission

Notice of Temporary Variance Request and Soliciting Comments, Motions to Intervene, and Protests

July 5, 2001.

Take notice that the following hydroelectric application has been filed with the Commission and is available for public inspection:

a. Type of Application: Request For Temporary Variance of Article 401.

b. Project No.: 2514-065.

c. Date filed: June 22, 2001.

d. Applicant: American Electric Power.

e. Name of Project: Byllesby-Buck Project.

f. Location: On the New, Carroll County, Virginia. The project does not utilize federal or tribal lands.

g. Filed Pursuant to: 18 CFR § 4.200.

h. Applicant Contact: Frank M. Simms, American Electric Power, 1 Riverside Plaza, Columbus, OH 43215-2373, (614) 223-2918.

i. FERC Contact: Hillary Berlin, hillary.berlin@ferc.fed.us, 202-219-0038.

j. Deadline for filing comments, motions to intervene and protest: (August 11, 2001).

All documents (original and eight copies) should be filed with: David P. Boergers, Secretary, Federal Energy Regulatory Commission, 888 First Street, NE, Washington, DC 20426. Comments, protests and interventions may be filed electronically via the Internet in lieu of paper. See, 18 CFR 385.2001(a)(1)(iii) and the instructions on the Commission's web site under the “e-Filing” link. Please include the project number (2514-065) on any comments or motions filed.

k. Description of Application: Article 401 currently requires the licensee to operate both project developments, Byllesby and Buck, within certain reservoir surface elevations. The licensee is planning maintenance work for the Byllesby development that would require operating between elevations 2070.0 feet and 2071.0 feet NGVD, approximately eight feet below the reservoir surface elevations allowed under article 401, for 60 days. The proposed work is intended to begin July 9, 2001 and September 7, 2001. The licensee filed an Applicant Prepared Environmental Assessment with this filing, which concludes that the proposed temporary lowering of the reservoir should have no significant impacts on environmental resources.

l. Locations of the application: A copy of the application is available for inspection and reproduction at the Commission's Public Reference Room, located at 888 First Street, NE, Room 2A, Washington, DC 20426, or by calling (202) 208-1371. This filing may also be viewed on the Commission's web site at http://www.ferc.gov using the “RIMS” link, select “Docket #” and follow the instructions ((202) 208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-17311 Filed 7-10-01; 8:45 am]

BILLING CODE 6717-01-P